DEPARTMENT OF DEFENSE

Department of the Army

Performance Review Board Membership for Chief of Staff of the Army

AGENCY: Department of the Army, DoD.

ACTION: Notice.

SUMMARY: Notice is given of the names of members of a Performance Review Board for the Department of the Army.

DATES: November 26, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army, Chief of Staff of the Army, are:

1. Mr. Joseph R. Billman, Director of Program Development, Office of the Deputy Chief of Staff, G-4, Office of the Chief of Staff of the Army.

2. Dr. Jeffrey J. Clarke, Chief Historian, U.S. Army Center of Military History.

3. Ms. Kathryn A. Condon, Assistant Deputy Chief of Staff, G-3, Homeland Security, Training and Simulation, Office of the Deputy Chief of Staff, G-3.

4. MG William Santo Crupe, Commander, 143rd Transportation Command, Orlando, Florida, Office of the Chief, Army Reserve.

5. Mr. Thomas Dillon, Director, Counterintelligence, Foreign Disclosure, and Security, Office of the Deputy Chief of Staff, G-2.

6. Mr. James Gunlicks, Deputy Director of Training, Office of the Deputy Chief of Staff, G-3.

7. Ms. Lois O. Hickey, Director for Army Personnel Transformation, Office of the Deputy Chief of Staff, G-1.

8. Mr. Robert N. Kittel, Special Assistant to The Judge Advocate General for Regulatory Law and Intellectual Property, U.S. Army Legal Services Agency.

9. MG Thomas J. Matthews, Vice Commander for Joint Warfighting Center (IMA) and Vice Director of Training, U.S. Joint Forces Command, Office of the Chief, Army Reserve.

10. Mr. John B. Nerger, Director, Facilities, Housing and Environment, Office of the Assistant Chief of Staff for Installation Management.

11. Mr. Eric A. Orsini, Special Assistant to the Deputy Chief of Staff, G-4, Office of the Deputy Chief of Staff, G-4.

12. Mr. Harold C. Pasini, Jr., Technical Director, U.S. Army Operational Test Command.

13. Mr. Dean E. Pfoltzer, Deputy Director, Program Analysis and Evaluation, Office of the Deputy Chief of Staff, G-8.

14. Mr. Brian M. Simmons, Deputy to the Commander and Technical Director, U.S. Army Developmental Test Command.

15. Dr. Zita M. Simutis, Director, Army Research Institute and Chief Psychologist, U.S. Army Research Institute.

16. Mr. Lewis S. Steenrod, Director of Modernization, Office of the Deputy Chief of Staff, G-8.

Luz D. Ortiz,
Army Federal Register Liaison Officer.

[FR Doc. 03-29981 Filed 12-1-03; 8:45 am]

BILLING CODE 3710-08-M